DEPARTMENT OF TRANSPORTATION

Federal Aviation Administration

14 CFR Part 71

[Docket No. FAA-2005-20446; Airspace Docket No. 05-AAL-04]

RIN 2120-AA66

Establishment of Area Navigation (RNAV) Routes; AK

AGENCY: Federal Aviation Administration (FAA), DOT.

ACTION: Final rule; correction.

SUMMARY: This action corrects several errors in the airspace descriptions of a final rule published in the Federal Register on June 22, 2005 (70 FR 36016), Airspace Docket No. 05-AAL-04.

EFFECTIVE DATE: 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On June 22, 2005, Airspace Docket No. 05-AAL-04 was published in the Federal Register (70 FR 36016), establishing 33 low altitude area navigation routes in Alaska. In that rule, the airspace descriptions contained several data points that were in error. This action corrects those errors.

Correction to Final Rule

Accordingly, pursuant to the authority delegated to me, the legal description for T-223, T-226, T-227, T-229, T-232, and T-250 as published in the Federal Register on June 22, 2005 (70 FR 36016), and incorporated by reference in 14 CFR 71.1, is corrected as follows:

§ 71.1 [Amended]

* * * * *

T-223 ANC to EHM [Corrected]
ANC | VOR/DME | (Lat. 61°09′03″ N., long. 150°12′24″ W.)
BLUGA | WP | (Lat. 60°46′22″ N., long. 151°55′07″ W.)
NONDA | WP | (Lat. 60°19′16″ N., long. 153°47′58″ W.)
FAGIN | WP | (Lat. 59°51′56″ N., long. 155°32′43″ W.)
DLG | VOR/DME | (Lat. 58°59′39″ N., long. 158°33′08″ W.)
EHM | NDB | (Lat. 58°39′21″ N., long. 162°04′33″ W.)
* * * * * * *
T-226 JOH to FYU [Corrected]
JOH | VOR/DME | (Lat. 60°28′51″ N., long. 146°35′58″ W.)
FIDAL | WP | (Lat. 60°44′03″ N., long. 146°26′00″ W.)
ROBES | WP | (Lat. 61°05′51″ N., long. 146°11′25″ W.)
KLUNG | WP | (Lat. 61°45′32″ N., long. 145°43′58″ W.)
GKN | VOR/DME | (Lat. 62°09′09″ N., long. 145°27′01″ W.)
DOZEY | WP | (Lat. 62°25′04″ N., long. 145°29′11″ W.)
PAXON | WP | (Lat. 62°58′53″ N., long. 145°33′56″ W.)
DONEL | WP | (Lat. 63°40′22″ N., long. 145°40′00″ W.)
BIG | VORTAC | (Lat. 64°00′16″ N., long. 145°43′02″ W.)
HEXAX | WP | (Lat. 65°59′40″ N., long. 145°23′01″ W.)
FYU | VORTAC | (Lat. 66°34′27″ N., long. 145°16′36″ W.)
T-227 CD to SYA [Corrected]
CD | NDB | (Lat. 55°17′46″ N., long. 162°47′21″ W.)
CIPIM | WP | (Lat. 54°52′50″ N., long. 165°03′15″ W.)
DUT | NDB/DME | (Lat. 53°54′19″ N., long. 166°32′57″ W.)
ADK | NDB/DME | (Lat. 51°52′19″ N., long. 176°40′34″ W.)
JANNT | WP | (Lat. 52°04′18″ N., long. 178°15′37″ W.)
SYA | NDB | (Lat. 52°43′19″ N., long. 174°03′37″ E.)
* * * * * * *
T-229 FAI to PHO [Corrected]
FAI | VORTAC | (Lat. 64°48′00″ N., long. 148°00′43″ W.)
TAL | VOR/DME | (Lat. 65°10′38″ N., long. 152°10′39″ W.)
HSL | VOR/DME | (Lat. 65°42′28″ N., long. 156°21′47″ W.)
WLK | VOR/DME | (Lat. 66°36′00″ N., long. 159°59′30″ W.)
OTZ | VOR/DME | (Lat. 66°53′08″ N., long. 162°32′24″ W.)
PHO | NDB | (Lat. 68°20′41″ N., long. 166°47′51″ W.)
* * * * * * *
T-232 OLARU to BRW [Corrected]
OLARU | WP | (Lat. 62°28′32″ N., long. 140°59′21″ W.)
ORT | VORTAC | (Lat. 62°56′50″ N., long. 141°54′46″ W.)
BIG | VORTAC | (Lat. 64°00′16″ N., long. 145°43′02″ W.)
FAI | VORTAC | (Lat. 64°48′00″ N., long. 148°00′43″ W.)
BTT | VOR/DME | (Lat. 66°54′18″ N., long. 151°32′09″ W.)
BRONX | WP | (Lat. 70°04′08″ N., long. 155°05′56″ W.)
BRW | VOR/DME | (Lat. 71°16′24″ N., long. 156°47′17″ W.)
* * * * * * *
T-250 BET to ULL [Corrected]
BET | VORTAC | (Lat. 60°47′05″ N., long. 161°49′27″ W.)
BANAT | WP | (Lat. 62°12′49″ N., long. 165°40′01″ W.)
ULL | VOR/DME | (Lat. 63°41′32″ N., long. 170°28′12″ W.)
* * * * * * *

Issued in Washington, DC, on July 13, 2005.
Edith V. Parish,
Acting Manager, Airspace and Rules.

[FR Doc. 05-14254 Filed 7-19-05; 8:45 am]

BILLING CODE 4910-13-P